Proclamation 7715 of October 3, 2003

German-American Day, 2003

By the President of the United States of America

A Proclamation

German-American Day celebrates more than 300 years of German immigration to our shores, beginning with the arrival of 13 Mennonite families from Krefeld on October 6, 1683. Seeking a new life of freedom and opportunity, these immigrants settled in Pennsylvania and founded Germantown near the city of Philadelphia. On this day, we recognize the contributions of those German pioneers, and millions of other German-American immigrants and their descendants, to the life and culture of our great Nation.

As one of the largest ethnic groups in the United States, German Americans have greatly influenced our country in the fields of business, government, law, science, athletics, the arts, and many others. Henry Engelhard Steinway and his sons founded Steinway & Sons in 1853. The 300,000th Steinway piano, the “golden grand,” was presented to President Franklin Roosevelt in 1938, and is still on display at the White House. John Augustus Roebling and his son pioneered the development of suspension bridges and wire cable. Their construction of the Brooklyn Bridge is a lasting landmark to their skill, determination, and innovation. And entrepreneurs such as John Davison Rockefeller, John Wanamaker, and Milton Snavely Hershey helped to strengthen the American economy and inspire others to reach for the American Dream.

In addition to their many professional achievements, German Americans have influenced American culture. From Christmas trees to kindergartens, the United States has adopted many German traditions and institutions. By celebrating and sharing their customs and traditions, German Americans help to preserve their rich heritage and enhance the cultural diversity of our Nation.

NOW, THEREFORE, I, GEORGE W. BUSH, President of the United States of America, by virtue of the authority vested in me by the Constitution and laws of the United States, do hereby proclaim October 6, 2003, as German-American Day. I encourage all Americans to recognize the contributions to the liberty and prosperity of the United States of our citizens of German descent.

IN WITNESS WHEREOF, I have hereunto set my hand this third day of October, in the year of our Lord two thousand three, and of the Independence of the United States of America the two hundred and twenty-eighth.

B

[FR Doc. 03-25653

Filed 10-7-03; 8:45 am]

Billing code 3195-01-P